DEPARTMENT OF COMMERCE

International Trade Administration

[A-570-601]

Tapered Roller Bearings and Parts Thereof, Finished and Unfinished, From the People's Republic of China: Final Results of the Expedited Third Sunset Review of the Antidumping Duty Order

AGENCY: Import Administration, International Trade Administration, Department of Commerce.

SUMMARY: On August 1, 2011, the Department of Commerce (“Department”) initiated the third sunset review of the antidumping duty order on tapered roller bearings and parts thereof, finished and unfinished (“TRBs”) from the People's Republic of China (“PRC”) pursuant to section 751(c) of the Tariff Act of 1930, as amended (“Act”). On August 16, 2011, the Timken Company (“Timken”), a domestic producer and the petitioner in the TRBs less-than-fair-value investigation, notified the Department that it intended to participate in the sunset review. On August 16, 2011, the United Steel, Paper and Forestry, Rubber, Manufacturing, Energy, Allied Industrial and Service Workers International Union, AFL-CIO-CLC (“USW”), a union that represents workers engaged in the manufacturing of tapered roller bearings and parts thereof in the United States, also notified the Department that it intended to participate in the sunset review. The Department did not receive a notice of intent to participate from any respondent interested party. Based on the notices of intent to participate and adequate response filed by Timken and USW (together, “the domestic parties”), and the lack of response from any respondent interested party, the Department conducted an expedited (120-day) sunset review of the antidumping duty order on tapered roller bearings from the PRC pursuant to section 751(c)(3)(B) of the Act and 19 CFR 351.218(e)(1)(ii)(C)(2). See Antidumping Duty Order; Tapered Roller Bearings and Parts Thereof, Finished or Unfinished, From the People's Republic of China, 52 FR 22667 (June 15, 1987), as amended, Tapered Roller Bearings From the People's Republic of China; Amendment to Final Determination of Sales at Less Than Fair Value and Antidumping Duty Order in Accordance With Decision Upon Remand, 55 FR 6669 (Feb. 26, 1990) (“Order”). As a result of this sunset review, the Department finds that revocation of the Order would likely lead to continuation or recurrence of dumping, at the levels indicated in the “Final Results of Sunset Review” section of this notice, infra.

DATES: Effective Date: December 6, 2011.

FOR FURTHER INFORMATION CONTACT: Lindsey Novom; AD/CVD Operations, Import Administration, International Trade Administration, U.S. Department of Commerce, 14th Street and Constitution Avenue NW., Washington, DC 20230; telephone: (202) 482-5256.

SUPPLEMENTARY INFORMATION:

Background

On August 1, 2011, the Department initiated a sunset review of the order on TRBs pursuant to section 751(c) of the Act. See Initiation of Five-Year (“Sunset”) Review, 76 FR 45778, 45779 (August 1, 2011) (“Sunset Initiation”). On August 16, 2011, the Department received a timely notice of intent to participate in the sunset review from the domestic parties, pursuant to 19 CFR 351.218(d)(1)(i). In accordance with 19 CFR 351.218(d)(1)(ii)(A), Timken claimed interested party status under section 771(9)(C) of the Act as a domestic producer. USW is a certified or recognized union that represents workers engaged in manufacturing the domestic like product, and therefore, is an interested party pursuant to section 771(9)(D) of the Act.

On August 31, 2011, Timken and USW collectively filed an adequate substantive response in the sunset review within the 30-day deadline as specified in 19 CFR 351.218(d)(3)(i). The Department did not receive a substantive response from any respondent interested party in the sunset review. As a result, pursuant to section 751(c)(3)(B) of the Act and 19 CFR 351.218(e)(1)(ii)(C)(2), the Department conducted an expedited sunset review of the Order.

Scope of the Order

The products covered by the order are tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (“HTSUS”) item numbers 8482.20.00, 8482.91.00.50, 8482.99.15, 8482.99.45, 8483.20.40, 8483.20.80, 8483.30.80, 8483.90.20, 8483.90.30, 8483.90.80, 8708.99.80.15 ¹ and 8708.99.80.80.² Although the HTSUS item numbers are provided for convenience and customs purposes, the written description of the scope of the order and this review is dispositive.

¹ Effective January 1, 2007, the HTSUS subheading 8708.99.8015 is renumbered as 8708.99.8115. See United States International Trade Commission (“USITC”) publication entitled, “Modifications to the Harmonized Tariff Schedule of the United States Under Section 1206 of the Omnibus Trade and Competitiveness Act of 1988,” USITC Publication 3898 (Dec. 2006) found at www.usitc.gov.

² Effective January 1, 2007, the HTSUS subheading 8708.99.8080 is renumbered as 8708.99.8180. Id.

Subsequent to the issuance of the order, we issued the following scope rulings:

On February 7, 2011, in response to an inquiry from Blackstone OTR LLC and OTR Wheel Engineering, Inc. (collectively, “Blackstone OTR”), the Department ruled that Blackstone OTR's wheel hub assemblies are included in the scope of the order.³

³ See Memorandum entitled “Tapered Roller Bearings from the People's Republic of China: Final Scope Ruling on Blackstone OTR LLC and OTR Wheel Engineering, Inc.'s Wheel Hub Assemblies and TRBs,” dated February 7, 2011.

On April 18, 2011, in response to an inquiry from New Trend Engineering Limited (“New Trend”), the Department ruled that: (1) New Trend's splined and non-splined wheel hub assemblies without antilock braking system (“ABS”) elements are included in the scope of the order; and (2) New Trend's wheel hub assemblies with ABS elements are also included in the scope of the Order.⁴

⁴ See Memorandum entitled, “Tapered Roller Bearings from the People's Republic of China: Final Scope Ruling on New Trend Engineering Ltd.'s Wheel Hub Assemblies,” dated April 18, 2011.

On June 14, 2011, in response to an inquiry from Bosda International (USA) LLC (“Bosda”), the Department ruled that Bosda's wheel hub assemblies are included in the scope of the Order.⁵

⁵ See Memorandum entitled “Tapered Roller Bearings from the People's Republic of China Final Scope Determination on Bosda's Wheel Hub Assemblies,” dated June 14, 2011.

On August 2, 2011, in response to an inquiry from DF Machinery International, Inc. (“DF Machinery”), the Department ruled that DF Machinery's agricultural hub units are included in the scope of the Order.⁶

⁶ See Memorandum entitled “Tapered Roller Bearings and Parts Thereof, finished and Unfinished, from the People's Republic of China- Final Scope Determination on DF Machinery's Agricultural Hub Units,” dated August 3, 2011.

Analysis of Comments Received

A complete discussion of all issues raised in this sunset review is addressed in the accompanying Issues and Decision Memorandum from Christian Marsh, Deputy Assistant Secretary for Antidumping and Countervailing Duty Operations, to Paul Piquado, Assistant Secretary for Import Administration, which is hereby adopted by this notice. See the Department's memorandum entitled, “Issues and Decision Memorandum for the Final Results of the Expedited Third Sunset Review of the Antidumping Duty Order on Tapered Roller Bearings and Parts Thereof, Finished and Unfinished, from the People's Republic of China,” dated concurrently with this notice (“I&D Memo”). The issues discussed in the accompanying I&D Memo include the likelihood of continuation or recurrence of dumping and the magnitude of the dumping margin likely to prevail if the Order is revoked. Parties can obtain a public copy of the I&D Memo which is on file electronically via Import Administration's Antidumping and Countervailing Duty Centralized Electronic Services System (IA ACCESS). Access to IA ACCESS is available in the Central Records Unit room 7046 of the main Department of Commerce building. In addition, a complete version of the I&D Memo can be accessed directly on the Web at http://trade.gov/ia. The signed I&D Memo and the electronic versions of the I&D Memo are identical in content.

Final Results of Sunset Review

Pursuant to section 751(c) of the Act, the Department determines that revocation of the Order on TRBs would likely lead to continuation or recurrence of dumping at the rates listed below:

Exporters/producers | Weighted-average margin (percent)
China National Machinery Import & Export Corp | 0.03
Zheijiang Wanxiang Group | 0.11
Zheijiang Machinery Import & Export Corp | 0.11
Luoyang Bearing Corporation | 3.20
Premier Bearing & Equipment, Ltd | 5.60
Liaoning Mec Group, Ltd. | 9.72
China National Machinery and Equipment Import & Export Corp | 31.05
PRC-wide | 31.05

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: November 29, 2011.
Paul Piquado,
Assistant Secretary for Import Administration.

[FR Doc. 2011-31297 Filed 12-5-11; 8:45 am]

BILLING CODE 3510-DS-P